FEDERAL TRADE COMMISSION

Agency Information Collection Activities; Proposed Collection; Comment Request; Revision

AGENCY: Federal Trade Commission.

ACTION: Notice.

SUMMARY: The Federal Trade Commission (FTC) seeks public comments on proposed additions to an Office of Management and Budget (OMB) clearance for FTC administrative activities. This request concerns three consumer complaint forms and a survey to be used to evaluate the effectiveness of the FTC's complaint handling system. The proposed additions will be submitted to OMB for review, as required by the Paperwork Reduction Act (PRA), following this opportunity for public comment.

DATES: Comments must be submitted on or before September 18, 2000.

ADDRESSES: Send written comments to Secretary, Federal Trade Commission, Room H-159, 600 Pennsylvania Avenue, NW., Washington, DC 20580, or by e-mail to frnotice0047@ftc.gov. The submissions should include the submitter's name, address, telephone number and, if available, FAX number and e-mail address. All submissions should be captioned “PRA/Consumer Complaint system.” All comments should be identified as responding to this notice.

FOR FURTHER INFORMATION CONTACT: Requests for additional information or copies of the proposed survey questions should be addressed to Joseph Brooke, Division of Planning and Information, Bureau of Consumer Protection, Federal Trade Commission, 600 Pennsylvania Avenue, NW., H-292, Washington, DC 20580, (202) 326-3484. The consumer complaint forms may be found at the following websites: https://www.ftc.gov/ftc/complaint.htm (general complaint form); https://www.ftc.gov/ftc/knowfraudcomplaint.htm (fraud complaints); and https://www.ftc.gov/ftc/idtheftform.htm (identity theft).

SUPPLEMENTARY INFORMATION: Under section 3507(h)(3) of the PRA, 44 U.S.C. 3501-3520, a Federal agency may not materially change an approved collection of information ¹ unless OMB has approved the modification. OMB previously granted approval for various collections of information grouped under the category “FTC Administrative Activities” (OMB Control Number 3084-0047) on August 16, 1999. This category consists of applications to the FTC, including those pertaining to its Rules of Practice, primarily those under Parts 1, 2, and 4 of CFR Title 16. On July 12, 2000, OMB granted an expedited provisional clearance for the forms and survey and, under 5 CFR 1320.13(d), waived the requirement to publish a notice of the emergency clearance request.

¹ “Collection of information” is defined in 44 U.S.C. 3502(3) and 5 CFR 1320.3(c), and includes, as relevant here, agency requests for answers to identical questions from ten or more persons that extend beyond mere identification of the respondent.

As required by section 3506(c)(2)(A) of the PRA, the FTC is providing this opportunity for public comment before submitting its certification and the forms and survey to OMB for its non-provisional clearance relating to FTC administrative activities. The FTC will ask that OMB extend its approval for these proposed additions through August 31, 2002, to coincide with the expiration of the existing clearance.

The FTC invites comments on: (1) Whether the proposed collection of information is necessary for the proper performance of the functions of the agency, including whether the information will have practical utility; (2) the accuracy of the agency's estimate of the burden of the proposed collection of information, including the validity of the methodology and assumptions used; (3) ways to enhance the quality, utility, and clarity of the information to be collected; and (4) ways to minimize the burden of the collection of information on those who are to respond, including through the use of appropriate automated, electronic, mechanical, or other technological collection techniques or other forms of information technology, e.g., permitting electronic submission of responses.

Description of the Collection of Information and Proposed Use

The forms and survey are to improve public access to the Bureau of Consumer Protection's (BCP) Consumer Response Center (CRC), and are voluntary. Consumers may call a hotline phone number or may log on to the FTC's website to electronically register a complaint using the applicable complaint form. There are three different consumer complain forms: (1) the general www.ftc.gov complain form (for other than indentify theft complaints); (2) the www.consumer.gov “Know Fraud” complain form (essentially another way to access complaint from #1); and (3) the “Identity Theft On-Line Complaint Form.”

General and Fraud Complaint Systems

Telephone complaints and inquiries to the FTC are answered both by FTC staff and an offsite contractor. Telephone counselors ask for the same information that consumers would enter on the applicable online form. For the general complaint and fraud systems, BCP has set a target time of 4.5 minutes per call to gather information, somewhat less time than it estimates for consumers to enter their complaints online.² This target was determined by the BCP's standard telemarketing best practices for consumer calls. Frequently, part of these incoming calls is devoted to the agency's providing requested information to consumers, not collecting information. The burden estimate, however, conservatively assumes that all of the estimated time is devoted to collecting information from consumers.

Identity Theft

To handle complaints about identity theft, the FTC must obtain more detailed information than is required of other complainants. BCP designed the online identity theft form to be as short as practicable, seeking only the minimum information needed for initial evaluation and potential follow up. Obtaining further information through the initial consumer contact was dropped as unwieldy. With call-ins, however, staff and the contractor seek to obtain more detailed and comprehensive information up front to minimize the need for follow up calls.

² Because the fruad-related form is closely patterned after the general complain form, burden estimates per respondent for each are the same.

Since investigating identity theft requires more information (e.g., credit history, credit bureau information, respondent social security number, identifying multiple suspects) than general consumer complaints and complaints about fraud, identity theft calls and online entries take longer. A significant portion of caller time (approximately 4 minutes per call), however, involves counseling consumers, no collecting information. Accordingly, the estimated telephone time shown below accounts only for the information collection part of the calls.

Customer Satisfaction Survey

The customer satisfaction survey would collect information concerning the overall effectiveness and timeliness of the CRC. The CRC will survey roughly 2 percent of complainants. Subsets of consumers contacts throughout the year will be questioned about specific aspects of CRC customer service.

Each consumer surveyed would be asked 8-10 questions chosen from the list noted above. Half of the questions would ask consumers to rate CRC performance on a scale or call for yes or no responses. The second half of the survey would ask more open-ended questions seeking a short written or verbal answer. BCP staff estimates that each respondent will require four minutes to answer the questions (approximately 20-30 seconds per question).

What follows are preliminary estimates of burden for these various collections of information, including the questionnaire. The figures for the online forms and consumer hotlines are an average of annualized volume-to-date for the respective programs and projected volume for the next two years (the period of the existing clearance for FTC administrative activities), and are rounded to the nearest thousand.

Annual hours burden:

Activity | Number of respondents | Number of minutes activity | Total hours
Miscell. and fraud-related consumer complaints (phone) | 300,000 | 4.5 | 23,000
Miscell. and fraud-related consumer complaints (lonline) | 35,000 | 5.0 | 3,000
IDT complaints (phone) | 90,000 | 8 | 12,000
IDT complaints (online) | 26,000 | 7.5 | 3,000
Customer Satisfaction Questionnaire | 9,000 | 4.0 | 600
Total | 460,000 |  | 41,600

Annual Cost Burden

The cost per respondent should be negligible. Participation is voluntary, and will not require any labor expenditures of respondents. There are no capital, start-up, operation, maintenance, or other similar costs to the respondents.

Debra A. Valentine,
General Counsel.

[FR Doc. 00-18190 Filed 7-18-00; 8:45 am]

BILLING CODE 6750-01-M